FEDERAL COMMUNICATIONS COMMISSION

Notice of Public Information Collection(s) Being Reviewed by the Federal Communications Commission, Comments Requested

January 9, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 17, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, and an e-mail to PRA@fcc.gov.

FOR FURTHER INFORMATION CONTACT: For additional information, contact Judith B. Herman at 202-418-0214 or via the Internet at Judith-B.Herman@fcc.gov.

SUPPLEMENTARY INFORMATION:

OMB Control Number: 3060-0718.

Title: Part 101, Governing the Terrestrial Microwave Fixed Radio Service.

Form No.: N/A.

Type of Review: Extension of a currently approved collection.

Respondents: Business or other for-profit entities, not-for-profit institutions, and state, local, or tribal government.

Number of Respondents: 9,500 respondents; 7,502 responses.

Estimated Time Per Response: .25-3 hours.

Frequency of Response: On occasion and every 10-years, reporting requirements, recordkeeping requirements, and third-party disclosure requirements.

Obligation to Respond: Required to obtain or retain benefits.

Total Annual Burden: 35,242 hours.

Total Annual Cost: $553,000.

Privacy Act Impact Assessment: N/A.

Nature and Extent of Confidentiality: There is no need for confidentiality.

Needs and Uses: The Commission will submit this information collection to the Office of Management and Budget (OMB) after the 60 day comment period in order to obtain the full three year clearance from them. The Commission is requesting an extension (there are no changes to the reporting, recordkeeping and/or third party disclosure requirements). Part 101 requires various information to be filed and maintained by the respondent to determine the technical, legal and other qualifications of applications to operate a station in the public and private operational fixed services. The information is also used to determine whether the public interest convenience, and necessity are being served as required by 47 U.S.C. 309. The Commission staff also uses this information to ensure that applicants and licensees comply with ownership and transfer restrictions imposed by 47 U.S.C. 310. The information will continue to be used by the Commission staff in carrying out its duties under the Communications Act of 1934, as amended. Without this information, the Commission would not be able to carry out its statutory responsibilities.

Federal Communications Commission.
Marlene H. Dortch,
Secretary.

[FR Doc. E9-803 Filed 1-15-09; 8:45 am]

BILLING CODE 6712-01-P